DEPARTMENT OF TRANSPORTATION

Pipeline and Hazardous Materials Safety Administration

International Standards on the Transport of Dangerous Goods; Public Meeting

AGENCY: Pipeline and Hazardous Materials Safety Administration (PHMSA), Department of Transportation.

ACTION: Notice of public meeting.

SUMMARY: This notice is to advise interested persons that PHMSA will conduct a public meeting in preparation for the 33rd session of the United Nation's Sub-Committee of Experts on the Transport of Dangerous Goods (UNSCOE) to be held June 30-July 9, 2008 in Geneva, Switzerland. In addition, PHMSA is soliciting comments relative to any potential new work items which may be considered for inclusion in its international agenda.

DATES: Wednesday, June 18, 2008; 9:30 a.m.-1:30 p.m.

ADDRESSES: The meeting will be held at the new DOT Headquarters, West Building, Oklahoma City Conference Room, 1200 New Jersey Avenue, SE., Washington, DC 20590.

Conference Call Capability Information: Call-in capability will be provided for this meeting. To participate by telephone, dial 1 (888) 395-1810 and enter participant passcode 63672. During the call, please press *6 to mute/unmute your individual line. This will ensure participants are not subjected to any background noise from individual lines.

FOR FURTHER INFORMATION CONTACT: Mr. Duane Pfund, Director, Office of International Standards, Office of Hazardous Materials Safety, Department of Transportation, Washington, DC 20590; (202) 366-0656.

SUPPLEMENTARY INFORMATION: The primary purpose of this meeting will be to prepare for the 33rd session of the UNSCOE and to discuss draft U.S. positions on UNSCOE proposals. The 33rd session of the UNSCOE is the third meeting in the current biennium cycle. The UNSCOE will consider proposals for the 16th Revised Edition of the United Nations Recommendations on the Transport of Dangerous Goods Model Regulations which will come into force in the international regulations from January 1, 2011. Topics to be covered during the public meetings include: Transport of limited quantities and consumer commodities, provisions for training of personnel, use of electronic documentation, subsidiary labeling for toxic by inhalation liquids, requirements for cryogenic receptacles, requirements for lithium batteries, fumigated units and dry ice, harmonization with the IAEA Regulations for the safe transport of radioactive materials, guiding principles for the development of the Model Regulations, and various miscellaneous proposals related to listing, classification, and hazard communication.

Finally, PHMSA is soliciting comments on how to further enhance harmonization for international transport of hazardous materials. PHMSA is developing a five year plan to address international harmonization and welcomes input on items which stakeholders believe should be included in this plan.

The public is invited to attend without prior notification. Due to the heightened security measures participants are encouraged to arrive early to allow time for security checks necessary to obtain access to the building. In lieu of conducting a public meeting after the 33rd session of the UNSCOE to present the results of the session, PHMSA will place a copy of the Sub-Committee's report and an updated copy of the pre-meeting summary document on PHMSA's Hazardous Materials Safety Homepage at http://hazmat.dot.gov/regs/intl/intstandards.htm.

Documents

Copies of documents for the UNSCOE meeting and the meeting agenda may be obtained by downloading them from the United Nations Transport Division's web site at: http://www.unece.org/trans/main/dgdb/dgsubc/c32008.html. This site may also be accessed through PHMSA's Hazardous Materials Safety Web site at http://hazmat.dot.gov/regs/intl/intstandards.htm. PHMSA' s site provides additional information regarding the UNSCOE and related matters such as a summary of decisions taken at previous sessions of the UNSCOE.

Issued in Washington, DC, on May 22, 2008.
Theodore L. Willke,
Associate Administrator for Hazardous Materials Safety.

[FR Doc. E8-12060 Filed 5-30-08; 8:45 am]

BILLING CODE 4910-60-M